Title 3—

The President

Proclamation 10127 of December 16, 2020

Wright Brothers Day, 2020

By the President of the United States of America

A Proclamation

On this day 117 years ago, for a few short seconds over 120 feet of wind-swept beach in North Carolina, Orville Wright became the first person to achieve sustained, controlled, powered, and manned flight, forever altering the course of human history. The flying machine Orville piloted, which he and his brother Wilbur designed and constructed following years of research and testing, propelled mankind off the ground and into the skies. Today, we honor these tenacious and intrepid pioneers who paved the way for American leadership in aviation.

The story of the Wright Brothers reflects the quintessential American values of perseverance, courage, and sheer grit. Neither Wilbur nor Orville graduated high school. Both brothers, however, possessed a fascination with new technology and mechanics. They taught themselves engineering through their work in their bicycle shop in Dayton, Ohio. Using a homemade wind tunnel, they collected data and developed new designs for propellers and wings, oversaw the creation of a new, specially made engine, and invented an innovative system for steering manned aircraft, solving problems that had plagued previous attempts at powered flight. Through trial and error and hundreds of test flights in gliders and prototypes, the Wright Brothers, in true American fashion, pushed beyond the boundaries of human discovery and exploration. Their tireless dedication and unyielding determination testify to the power of human ingenuity and produced a revolution in transportation, national defense, and global economic development.

The Wright Brothers' pursuits also established America's role as the world's foremost aviation leader and set the stage for future generations of American flight heroes. Just 24 years after the Wright Brothers' first flight, Charles Lindbergh became the first person to fly solo nonstop across the Atlantic Ocean, and 5 years later Amelia Earhart became the first woman to accomplish that same feat. Just a few weeks ago, our Nation mourned the loss of another aviation legend, Brigadier General Chuck Yeager. In a rocket plane named “Glamorous Glennis” after his beloved wife, Yeager flew at speeds in excess of 700 miles per hour, breaking the sound barrier for the first time in human history. This incredible feat occurred a mere 44 years after the Wright Brothers' first flight achieved a top airspeed of just 34 miles per hour. In 1969, 22 years after Yeager's flight, Neil Armstrong, an Ohioan like the Wright Brothers, became the first person to ever set foot on the lunar surface, thrusting American leadership in flight beyond the Earth's atmosphere. And, earlier this year, the National Aeronautics and Space Administration (NASA) launched a commercially built and operated spacecraft to the International Space Station from American soil for the first time. With the same spirit that took the Wright Brothers into the sky, our brave astronauts are once again redefining the limits of human knowledge and discovery.

December 17th is forever enshrined as the day the Wright Brothers launched a new era of American greatness. Today, as we reflect on the immeasurable influence the Wright Brothers had upon our society and the world, we resolve to continue breaking barriers, setting new horizons, and building a better and brighter future for all. In the years to come, Americans must continue to press further on the boundaries of sky and space and forge new frontiers for American success, just as Orville and Wilbur Wright courageously did more than a century ago.

The Congress, by a joint resolution approved December 17, 1963, as amended (77 Stat. 402; 36 U.S.C. 143), has designated December 17 of each year as “Wright Brothers Day” and has authorized and requested the President to issue annually a proclamation inviting the people of the United States to observe that day with appropriate ceremonies and activities.

NOW, THEREFORE, I, DONALD J. TRUMP, President of the United States of America, do hereby proclaim December 17, 2020, as Wright Brothers Day.

IN WITNESS WHEREOF, I have hereunto set my hand this sixteenth day of December, in the year of our Lord two thousand twenty, and of the Independence of the United States of America the two hundred and forty-fifth.

[FR Doc. 2020-28263

Filed 12-18-20; 8:45 am]

Billing code 3295-F1-P